ENVIRONMENTAL PROTECTION AGENCY

40 CFR Part 60

[FRL-6995-2]

RIN 2060-AE56

Standards of Performance for Electric Utility Steam Generating Units for Which Construction is Commenced After September 18, 1978; Standards of Performance for Industrial-Commercial-Institutional Steam Generating Units

AGENCY: Environmental Protection Agency (EPA).

ACTION: Partial withdrawal of direct final rule.

SUMMARY: Due to relevant adverse comment, the EPA is withdrawing two provisions from the direct final rule published on April 10, 2001 for Subpart Da—Standards of Performance for Electric Utility Steam Generating Units for Which Construction is Commenced After September 18, 1978, and Subpart Db—Standards of Performance for Industrial-Commercial-Institutional Steam Generating Units (66 FR 18546). These provisions deal with the revised definition of “boiler operating day” and the data substitution requirement for missing data.

DATES: This rule is effective June 11, 2001. As of June 11, 2001, the EPA withdraws the revised definition of “boiler operating day” in 40 CFR § 60.41a and 60.46a(j)(2) published on April 10, 2001 (66 FR 18546). The remaining provisions published on April 10, 2001 will be effective June 11, 2001 as stated in the April 10, 2001 direct final rule. The addition of 40 CFR 60.46a(j)(2), which deletes the data substitution requirement for missing data, is effective June 11, 2001.

ADDRESSES: Docket number A-92-71, containing supporting information used in the development of this notice is available for public inspection and copying between 8:00 a.m. and 5:30 p.m., Monday through Friday (except for Federal holidays) at the following address: U.S. Environmental Protection Agency, Air and Radiation Docket and Information Center (6102), 401 M Street, SW, Washington, DC 20460, or by calling (202) 260-7548. A reasonable fee may be charged for copying docket materials.

FOR FURTHER INFORMATION CONTACT: Mr. James Eddinger, Combustion Group, Emission Standards Division (MD-13), Office of Air Quality Planning and Standards, U.S. EPA, Research Triangle Park, NC 27711, telephone number (919) 541-5426, electronic mail address: eddinger.jim@epa.gov.

SUPPLEMENTARY INFORMATION: Because EPA received relevant adverse comment, we are withdrawing two of the provisions included in the direct final rule for compliance and monitoring requirements for duct burners used in combined cycle systems. We published the direct final rule (66 FR 18546) and a notice of proposed rulemaking (66 FR 18579) intended to amend the emissions monitoring and compliance provisions for duct burners contained in subparts Da and Db on April 10, 2001.

We stated in that Federal Register that if we received relevant adverse comment by May 10, 2001 on one or more distinct provisions of the direct final rule, we would publish a timely withdrawal of those distinct provisions in the Federal Register. We subsequently received relevant adverse comment on two of the provisions: the revised definition of “boiler operating day” in 40 CFR 60.41a and the data substitution requirement contained in 40 CFR 60.46a(j)(2).

The adverse comments stated that the revised definition of “boiler operating day” and the inclusion of the 40 CFR part 75 data substitution requirement are independent of the amendments addressing the compliance procedures for duct burners. The commenters stated that these provisions are inconsistent with existing subpart Da procedures and their potential impacts were not analyzed or discussed in the proposal. On reviewing the relevant adverse comments, we agreed with their conclusion that these provisions are inconsistent with existing provisions in subpart Da and independent of the provisions addressing the compliance procedures for duct burners. Section 60.47a(c)(2) states that, although 40 CFR part 75 monitors can be used for subpart Da compliance, 40 CFR part 75 missing data and bias adjustment procedures shall not be used. As for the revised definition of “boiler operating day,” § 60.47a(f) requires data to be collected for at least 18 hours in a “boiler operating day.” The proposed revised definition of a “boiler operating day” is inconsistent with this requirement. Therefore, we are withdrawing the revised definition of “boiler operating day” and § 60.46a(j)(2) which contained the requirement for substituting data under 40 CFR part 75.

Based on the adverse comment received, we are amending subpart Da to add a revised § 60.46a(j)(2) which will become effective on June 11, 2001 as provided in the April 10, 2001 direct final rule (66 FR 18546), as appears at the end of this document. This revised § 60.46a(j)(2) differs from the § 60.46a(j)(2) that is being withdrawn from the direct final rule by the deletion of the following statement:

This includes data substituted according to 40 CFR 75.21(i) for invalid data and 40 CFR 75.30 for missing data or data adjusted for negative bias as required by 40 CFR 75.23(d).

Based on our review of the comments received, we will, therefore, not address the comments on the withdrawn provisions in a subsequent final action on the parallel proposal published at 66 FR 18579.

The provisions for which we did not receive relevant adverse comment, as well as the revised § 60.46a(j)(2), will become effective on June 11, 2001 as provided in the April 10, 2001 direct final rule (66 FR 18546).

Dated: June 5, 2001.
Robert D. Brenner,
Acting Assistant Administrator, Office of Air and Radiation.

For reasons set out in the preamble, title 40, chapter I, part 60 of the Code of Federal Regulations is amended as follows:

PART 60—[AMENDED]

1. The authority citation for part 60 continues to read as follows:

Authority: 42 U.S.C. 7401 et seq.

Subpart Da—[Amended]

2. Section 60.46a is amended by adding paragraph (j)(2) to read as follows:

§ 60.46a Compliance provisions.

* * * * *

(j) * * *

(2) The owner or operator of an affected duct burner may elect to determine compliance by using the continuous emission monitoring system specified under § 60.47a for measuring NOX and oxygen and meet the requirements of § 60.47a. Data from a CEMS certified (or recertified) according to the provisions of 40 CFR 75.20, meeting the QA and QC requirements of 40 CFR 75.21, and validated according to 40 CFR 75.23 may be used. The sampling site shall be located at the outlet from the steam generating unit. The NOX emission rate at the outlet from the steam generating unit shall constitute the NOX emission rate from the duct burner of the combined cycle system.

* * * * *

[FR Doc. 01-14618 Filed 6-8-01; 8:45 am]

BILLING CODE 6560-50-P